FEDERAL COMMUNICATIONS COMMISSION

47 CFR Parts 0, 1, 76, and 78

[CS Docket No. 00-78, FCC 03-55]

Implementation of Electronic Filing for the Multichannel Video and Cable Television Service and the Cable Television Relay Service

AGENCY: Federal Communications Commission.

ACTION: Final rule; announcement of effective date.

SUMMARY: The Federal Communications Commission received Office of Management and Budget (OMB) approval of the rules implementing the electronic filing for the Multichannel Video and Cable Television Service and the Cable Television Relay Service published at 68 FR 26997 (May 19, 2003). The forms associated with this final rule are FCC Form 321, Aeronautical Frequency Notification, (OMB Control No. 3060-0310); FCC Form 322 Cable Community Registration, (OMB Control No. 3060-0331); FCC Form 324, Operator, Mail Address, and Operational Information Changes, (OMB Control No. 3060-1045 (new collection)); and FCC Form 327, Application for Cable Television Relay Service Station (CARS) Authorization, (OMB Control No. 3060-0055)

DATES: The amendments to 47 CFR 0.401, 1.1104, 1.1111, 1.1701 through 1.1707, 76.403, 76.620, 76.1610, 76.1801, 76.1803, 76.1804, 78.17, 78.20, 78.35 and 78.109 at 68 FR 26997 (May 19, 2003) are effective January 26, 2004.

SUPPLEMENTARY INFORMATION: The Federal Communications Commission released the Report and Order (R&O) in CS Docket No. 00-78; FCC 03-55, on March 19, 2003. The R&O revised our rules governing the filing of the majority of forms filed by the public for the Multichannel Video and Cable Television Service (“MVCTS”) and applications in the Cable Television Relay Service (“CARS”) and provided for electronic filing. The revised rule sections at 68 FR 26997, May 19, 2003, contained information collection requirements that required OMB approval. The Commission announces OMB approval and the rules are effective January 26, 2004. For questions concerning the effective date for the rule revisions contact Wayne T. McKee, Media Bureau, Engineering Division at (202) 418-2355 or via the Internet at Wayne.McKee@fcc.gov.

Pursuant to the Paperwork Reduction Act of 1995, Pub. L. 104-13, an agency may not conduct or sponsor a collection of information unless it displays a currently valid control number. Notwithstanding any other provisions of law, no person shall be subject to any penalty for failing to comply with a collection of information subject to the Paperwork Reduction Act (PRA) that does not display a valid control number. Questions concerning this revised information collection should be directed to Leslie F. Smith, Federal Communications Commission, (202) 418-0217 or via the Internet at Leslie.Smith@fcc.gov.

Federal Communications Commission.
Marlene H. Dortch,
Secretary.

[FR Doc. 04-1531 Filed 1-23-04; 8:45 am]

BILLING CODE 6712-01-P